DEPARTMENT OF THE TREASURY

Office of the Comptroller of the Currency

FEDERAL RESERVE SYSTEM

FEDERAL DEPOSIT INSURANCE CORPORATION

Agency Information Collection Activities: Submission for OMB Review; Joint Comment Request

AGENCIES: Office of the Comptroller of the Currency (OCC), Treasury; Board of Governors of the Federal Reserve System (Board); and Federal Deposit Insurance Corporation (FDIC).

ACTION: Notice of information collection to be submitted to OMB for review and approval under the Paperwork Reduction Act of 1995.

SUMMARY: In accordance with the requirements of the Paperwork Reduction Act of 1995 (44 U.S.C. chapter 35), the OCC, the Board, and the FDIC (the “agencies”) may not conduct or sponsor, and the respondent is not required to respond to, an information collection unless it displays a currently valid Office of Management and Budget (OMB) control number. On August 17, 2004, the agencies, under the auspices of the Federal Financial Institutions Examination Council (FFIEC), published a notice in the Federal Register (69 FR 51145) (August proposal) requesting public comment on proposed revisions to the Country Exposure Report (FFIEC 009) and the Country Exposure Information Report (FFIEC 009a), which are currently approved information collections. After considering the two comments received, the FFIEC and the agencies modified the August 2004 proposal. On April 19, 2005, the agencies published a notice in the Federal Register (April proposal) requesting public comment on the modified August 2004 proposal. The FFIEC and the agencies have considered the three comments received and have made further modifications to the April proposal. The agencies are now submitting requests to OMB for approval of the revisions to the FFIEC 009 and FFIEC 009a reports that have been adopted by the FFIEC.

DATES: Comments must be submitted on or before November 16, 2005.

ADDRESSES: Interested parties are invited to submit written comments to any or all of the agencies. All comments, which should refer to the OMB control number, will be shared among the agencies.

OCC: You should direct your comments to: Communications Division, Office of the Comptroller of the Currency, Public Information Room, Mailstop 1-5, Attention: 1557-0100, 250 E Street SW., Washington, DC 20219. In addition, comments may be sent by fax to 202-874-4448, or by electronic mail to regs.comments@occ.treas.gov. You can inspect and photocopy the comments at the OCC's Public Information Room, 250 E Street SW., Washington, DC 20219. You can make an appointment to inspect the comments by calling 202-874-5043.

Board: You may submit comments, identified by FFIEC 009, by any of the following methods:

• Agency Web Site: http://www.federalreserve.gov. Follow the instructions for submitting comments on http://www.federalreserve.gov/generalinfo/foia/ProposedRegs.cfm.

• Federal eRulemaking Portal: http://www.regulations.gov. Follow the instructions for submitting comments.

• E-mail: regs.comments@federalreserve.gov. Include docket number in the subject line of the message.

• FAX: 202-452-3819 or 202-452-3102.

• Mail: Jennifer J. Johnson, Secretary, Board of Governors of the Federal Reserve System, 20th Street and Constitution Avenue NW., Washington, DC 20551.

All public comments are available from the Board's Web site at http://www.federalreserve.gov/generalinfo/foia/ProposedRegs.cfm as submitted, unless modified for technical reasons. Accordingly, your comments will not be edited to remove any identifying or contact information. Public comments may also be viewed electronically or in paper in Room MP-500 of the Board's Martin Building (20th and C Streets NW.) between 9 a.m. and 5 p.m. on weekdays.

FDIC: You may submit written comments, which should refer to “Country Exposure Reports, 3064-0017,” by any of the following methods:

• Agency Web Site: http://www.fdic.gov/regulations/laws/federal/propose.html. Follow the instructions for submitting comments on the FDIC Web site.

• Federal eRulemaking Portal: http://www.regulations.gov. Follow the instructions for submitting comments.

• E-mail: Comments@FDIC.gov.

• Mail: Robert E. Feldman, Executive Secretary, Attention: Comments, FDIC, 550 17th Street NW., Washington, DC 20429.

• Hand Delivery/Courier: Guard station at the rear of the 550 17th Street Building (located on F Street) on business days between 7 a.m. and 5 p.m.

Public Inspection: All comments received will be posted without change to http://www.fdic.gov/regulations/laws/federal/propose/html including any personal information provided. Comments may be inspected at the FDIC Public Information Center, Room 100, 801 17th Street NW., Washington, DC, between 9 a.m. and 4:30 p.m. on business days.

A copy of the comments may also be submitted to the OMB desk officer for the agencies: By mail to U.S. Office of Management and Budget, 725, 17th Street, NW., #10235, Washington, DC 20503 or by facsimile to (202) 395-6974, Attention: Federal Banking Agency Desk Officer.

FOR FURTHER INFORMATION CONTACT: Additional information or a copy of the collections may be requested from:

OCC: Mary Gottlieb, OCC Clearance Officer, or Camille Dixon, 202-874-5090, Legislative and Regulatory Activities Division, Office of the Comptroller of the Currency, 250 E Street SW., Washington, DC 20219.

Board: Michelle Long, Federal Reserve Board Clearance Officer, 202-452-3829, Division of Research and Statistics, Board of Governors of the Federal Reserve System, 20th and C Streets NW., Washington, DC 20551. Telecommunications Device for the Deaf (TDD) users may call 202-263-4869, Board of Governors of the Federal Reserve System, 20th and C Streets NW., Washington, DC 20551.

FDIC: Leneta G. Gregorie, Counsel, 202-898-3719, Legal Division, Federal Deposit Insurance Corporation, 550 17th Street NW., Washington, DC 20429.

SUPPLEMENTARY INFORMATION:

Proposal To Request Approval From OMB To Revise the Following Reports

Report Titles: Country Exposure Report and Country Exposure Information Report.

Form Numbers: FFIEC 009 and FFIEC 009a.

Frequency of Response: Quarterly.

Affected Public: Business or other for profit.

OCC

OMB Number: 1557-0100.

Estimated Number of Respondents: 21 (FFIEC 009); 21 (FFIEC 009a).

Estimated Average Time per Response: 70 burden hours (FFIEC 009); 5.25 burden hours (FFIEC 009a).

Estimated Total Annual Burden: 5,880 burden hours (FFIEC 009); 441 burden hours (FFIEC 009a).

Board

OMB Number: 7100-0035.

Estimated Number of Respondents: 29 (FFIEC 009); 16 (FFIEC 009a).

Estimated Average Time per Response: 70 burden hours (FFIEC 009); 5.25 burden hours (FFIEC 009a).

Estimated Total Annual Burden: 8,120 burden hours (FFIEC 009); 336 burden hours (FFIEC 009a).

FDIC

OMB Number: 3064-0017.

Estimated Number of Respondents: 21 (FFIEC 009); 21 (FFIEC 009a).

Estimated Average Time per Response: 70 burden hours (FFIEC 009); 5.25 burden hours (FFIEC 009a).

Estimated Total Annual Burden: 5,880 burden hours (FFIEC 009); 441 burden hours (FFIEC 009a).

General Description of Report

These information collections are mandatory: 12 U.S.C. 161 and 1817 (national banks), 12 U.S.C. 248(a), 1844(c), and 3906 (state member banks and bank holding companies), and 12 U.S.C. 1817 and 1820 (insured state nonmember banks). The FFIEC 009 data are given confidential treatment (5 U.S.C. 552(b)(4) and (b)(8)). The FFIEC 009a data are not given confidential treatment.

Abstract

The Country Exposure Report (FFIEC 009) is filed quarterly with the agencies and provides information on international claims of U.S. banks and bank holding companies that is used for supervisory and analytical purposes. The information is used to monitor country exposure of banks to determine the degree of risk in their portfolios and the possible impact on U.S. banks of adverse developments in particular countries. The Country Exposure Information Report (FFIEC 009a) is a supplement to the FFIEC 009 and provides publicly available information on material foreign country exposures (all exposures to a country in excess of 1 percent of total assets or 20 percent of capital, whichever is less) of U.S. banks and bank holding companies that file the FFIEC 009 report. As part of the Country Exposure Information Report, reporting institutions must also furnish a list of countries in which they have lending exposures above 0.75 percent of total assets or 15 percent of total capital, whichever is less.

Current Actions

On April 19, 2005, the OCC, the Board, and the FDIC jointly published a notice soliciting comments for 60 days on a modified set of proposed revisions to the FFIEC 009 and FFIEC 009a reports (70 FR 20414). The FFIEC and the agencies made these modifications after considering the two comments received on proposed revisions to these reports that had been published for comment on August 17, 2004 (69 FR 51145). The agencies proposed in August 2004 to revise the FFIEC 009 to harmonize U.S. data with data on cross-border exposures collected by other countries and disseminated by the Bank for International Settlements (BIS) as their “consolidated banking statistics.” The proposed revisions included collecting additional detail on foreign-office claims of U.S. banks on local residents, including sector breakdowns and a currency split; adding a split between commitments and guarantees plus credit derivatives; redefining trade finance to be after adjustments for collateral and guarantees; and conforming the definition of public (i.e., government) sector with the definition used in the commercial bank Consolidated Reports of Condition and Income (Call Report) (FFIEC 031 and 041). No changes to the FFIEC 009a were proposed although the change in the definition of public sector in the FFIEC 009 results in a change in the amounts reported in columns 6 and 7 of the FFIEC 009a by corresponding amounts. In addition, the FFIEC 009a instructions were to be changed to reflect column changes on the FFIEC 009.

Under the April proposal, other proposed revisions included adding three columns to collect total foreign-office claims on local residents in a non-local currency, collecting three sector breaks for inward and outward risk transfers, changing the instructions regarding risk distributions for resale agreements and repayment structures, adding a column to collect foreign-office liabilities by country of residence of the creditor, adding a column to collect the total credit equivalent amount for all foreign exchange and derivative contracts by country of ultimate counterparty, and increasing the estimated response time to 70 hours. The agencies also proposed that all of the revisions to the FFIEC 009 would take effect as of the September 30, 2005, report date.

In response to the April 19, 2005, notice, the agencies received three comment letters from a banking trade association, a holding company, and one other party. After considering these comments and modifying the April proposal, the FFIEC and the agencies propose to implement changes to the FFIEC 009 effective with the March 31, 2006, report date, as discussed below.

Detailed Discussion of the Comments

Delay Implementation

Two commenters suggested delaying the implementation of the FFIEC 009 revisions until March 2006 or later because the proposed changes, if finalized, will require significant system changes and testing. The agencies agreed to delay the implementation of the revisions until March 2006.

Regular Filing Period

In the April proposal, the agencies stated that they would extend the filing period from 45 to 60 days for the initial revised report in September 2005. Since FFIEC 009 reporters will now have additional time to implement the proposed changes, the agencies have agreed that the filing period for the March 2006 report should be the regular 45-day filing period.

Delete Credit Equivalent Amount from Schedule 2

One commenter suggested that the proposed “Credit equivalent amount of foreign exchange and derivative products” column not be added to the reporting form for several reasons. First, the credit equivalent amount is not widely used by banks in their internal risk management systems; therefore, it would be burdensome to implement. Second, the Basel Committee on Banking Supervision recommends using expected positive exposure, rather than the potential future exposure, to create the “add on” to the current credit exposure when calculating the credit equivalent amount of derivatives for risk-based capital purposes because the potential future exposure is not sufficiently risk-sensitive (although it is consistent across banks). The agencies agreed to delete this proposed column from the reporting form; however, the agencies may propose reporting changes related to the expected positive exposure of foreign exchange and derivative products once the Basel II risk-based capital framework has been implemented.

Collection of Data on Foreign-office Liabilities by Country of Creditor's Residence

In the April proposal, the agencies agreed to add a column to the FFIEC 009 to collect foreign-office liabilities by country of residence of the creditor once the reduction in reporting on the Quarterly Report of Assets and Liabilities of Large Foreign Offices of U.S. Banks (FR 2502q) to the Federal Reserve was implemented. The agencies agreed that since the reporting for the FR 2502q would be scaled back by March 2006, the proposed column on the FFIEC 009 could be implemented as of March 2006. The data in this new column would be required only from institutions that otherwise would have had to file the FR 2502q.

Clarify Instructions

One commenter suggested clarifying the instructions on whether the commitment columns in the FFIEC 009 refer to total commitments (which would include outstanding loans already included in columns 1-3) or unused commitments, similar to the Call Report and Consolidated Financial Statements for Bank Holding Companies (FR Y-9C) instructions. The commenter also suggested clarifying how to determine a foreign obligor's country of residence in the instructions. The agencies agreed to clarify the instructions for both of these issues. The commitment columns would cover only unused commitments. The country of residence is defined as the country of incorporation or, for branches, of charter.

Request for Comment

Comments are invited on:

a. Whether the information collections are necessary for the proper performance of the agencies' functions, including whether the information has practical utility;

b. The accuracy of the agencies' estimates of the burden of the information collections, including the validity of the methodology and assumptions used;

c. Ways to enhance the quality, utility, and clarity of the information to be collected;

d. Ways to minimize the burden of information collections on respondents, including through the use of automated collection techniques or other forms of information technology; and

e. Estimates of capital or start up costs and costs of operation, maintenance, and purchase of services to provide information.

Comments submitted in response to this notice will be shared among the agencies. All comments will become a matter of public record. Written comments should address the accuracy of the burden estimates and ways to minimize burden including the use of automated collection techniques or the use of other forms of information technology as well as other relevant aspects of the information collection request.

Dated: October 7, 2005.
Stuart Feldstein,
Assistant Director, Legislative and Regulatory Activities Division, Office of the Comptroller of the Currency.
Board of Governors of the Federal Reserve System, October 11, 2005.
Jennifer J. Johnson,
Secretary of the Board.
Dated at Washington, DC this 5th day of October, 2005.
Federal Deposit Insurance Corporation.
Robert E. Feldman,
Executive Secretary.

[FR Doc. 05-20662 Filed 10-14-05; 8:45 am]

BILLING CODE 4810-33-P; 6210-01-P; 6714-01-P